DEPARTMENT OF COMMERCE

National Oceanic and Atmospheric Administration

RIN 0648-XA560

Pacific Fishery Management Council; Public Meeting

AGENCY: National Marine Fisheries Service (NMFS), National Oceanic and Atmospheric Administration (NOAA), Commerce.

ACTION: Notice of public meeting (conference call).

SUMMARY: The Pacific Fishery Management Council (Pacific Council) Cost Recovery Committee (CRC) will convene a meeting that is open to the public via conference call and the internet using “Microsoft Live Meeting” to share documents.

DATES: The meeting will be held Friday, July 29, 2011 from 8:30 a.m. until 12 noon, PDT.

ADDRESSES: A listening station will be provided at Pacific Fishery Management Council, Large Conference Room, 7700 NE Ambassador Place, Suite 101, Portland, OR 97220-1384. Telephone: 503-820-2280.

To Join the Meeting Electronically and to listen to the conference call, contact Kris Kleinschmidt at 503-820-2280 for the telephone number and access code.

To view the documents, go to the CRC Live Meeting link located at: https://www.livemeeting.com/cc/pacificfishery/join?id=4K2M7J&role=attend.

FOR FURTHER INFORMATION CONTACT: Regarding the committee work contact Jim Seger, Staff Officer; telephone: 503-820-2280. For further information regarding listening in on the conference call, contact Kris Kleinschmidt at 503-820-2280. For additional assistance accessing the live streaming service, you may send an e-mail to Sandra.Krause@noaa.gov.

SUPPLEMENTARY INFORMATION: The primary purpose of the meeting is to develop advice for the Council on development of a cost recovery methodology for the recently implemented groundfish trawl rationalization program. The Committee will (1) discuss the federal and state materials put forward at the June 2011 Pacific Council meeting in the context of the Committee charge, and (2) develop a CRC recommendation to the Pacific Council for the September Council meeting on a process to complete a Council recommendation on a cost recovery program. Other topics may be discussed as time allows, at the discretion of the CRC Chair.

Although non-emergency issues not contained in the meeting agenda may come before the CRC for discussion, those issues may not be the subject of formal action during this meeting. CRC action will be restricted to those issues specifically listed in this notice and any issues arising after publication of this notice that require emergency action under Section 305(c) of the Magnuson-Stevens Fishery Conservation and Management Act, provided the public has been notified of the CRC intent to take final action to address the emergency.

Special Accommodations

This meeting is accessible to people with disabilities. Requests for sign language interpretation or other auxiliary aids should be directed to Carolyn Porter at 503-820-2280 at least five days prior to the meeting date.

Dated: July 7, 2011.
Tracey L. Thompson,
Acting Director, Office of Sustainable Fisheries, National Marine Fisheries Service.

[FR Doc. 2011-17446 Filed 7-11-11; 8:45 am]

BILLING CODE 3510-22-P